DEPARTMENT OF ENERGY

Federal Energy Regulatory Commission

Combined Notice of Filings

Take notice that the Commission has received the following Natural Gas Pipeline Rate and Refund Report filings:

Filings Instituting Proceedings

Docket Numbers: RP11-2473-000.

Applicants: Gulf South Pipeline Company, LP.

Description: Report Filing: 2015 Cash Pool Filing.

Filed Date: 9/1/16.

Accession Number: 20160901-5082.

Comments Due: 5 p.m. ET 9/13/16.

Docket Numbers: RP11-2474-000.

Applicants: Gulf Crossing Pipeline Company LLC.

Description: Report Filing: 2015 Cash Pool Filing.

Filed Date: 9/1/16.

Accession Number: 20160901-5078.

Comments Due: 5 p.m. ET 9/13/16.

Docket Numbers: RP16-1222-000.

Applicants: Dominion Cove Point LNG, LP.

Description: Compliance filing DCP—2016 Revenue Crediting Report.

Filed Date: 9/1/16.

Accession Number: 20160901-5070.

Comments Due: 5 p.m. ET 9/13/16.

Docket Numbers: RP16-1223-000.

Applicants: Enable Gas Transmission, LLC.

Description: § 4(d) Rate Filing: Negotiated Rate Filing—September 2016 CERC 1019 LER 8744 to be effective 9/1/2016.

Filed Date: 9/1/16.

Accession Number: 20160901-5086.

Comments Due: 5 p.m. ET 9/13/16.

Docket Numbers: RP16-1224-000.

Applicants: Cimarron River Pipeline, LLC.

Description: § 4(d) Rate Filing: Fuel Tracker 2016—Winter Season Rates to be effective 11/1/2016.

Filed Date: 9/1/16.

Accession Number: 20160901-5133.

Comments Due: 5 p.m. ET 9/13/16.

Docket Numbers: RP16-1225-000.

Applicants: Columbia Gulf Transmission, LLC.

Description: Annual Cash-Out Report of Columbia Gulf Transmission, LLC under RP16-1225.

Filed Date: 9/1/16.

Accession Number: 20160901-5138.

Comments Due: 5 p.m. ET 9/13/16.

Docket Numbers: RP16-1226-000.

Applicants: ANR Pipeline Company.

Description: § 4(d) Rate Filing: Vectren Energy Amendment to be effective 9/1/2016.

Filed Date: 9/1/16.

Accession Number: 20160901-5182.

Comments Due: 5 p.m. ET 9/13/16.

Docket Numbers: RP16-1227-000.

Applicants: Natural Gas Pipeline Company of America.

Description: § 4(d) Rate Filing: Madill Gas Processing to be effective 6/27/2016.

Filed Date: 9/1/16.

Accession Number: 20160901-5236.

Comments Due: 5 p.m. ET 9/13/16.

Docket Numbers: RP16-1228-000.

Applicants: Trailblazer Pipeline Company LLC.

Description: § 4(d) Rate Filing: Order No. 587—Housekeeping to be effective 9/1/2016.

Filed Date: 9/2/16.

Accession Number: 20160902-5160.

Comments Due: 5 p.m. ET 9/14/16.

Docket Numbers: RP16-1229-000.

Applicants: Rockies Express Pipeline LLC.

Description: § 4(d) Rate Filing: Order No. 587-W, Housekeeping Filing to be effective 9/1/2016.

Filed Date: 9/2/16.

Accession Number: 20160902-5161.

Comments Due: 5 p.m. ET 9/14/16.

Docket Numbers: RP16-1230-000.

Applicants: Tallgrass Interstate Gas Transmission, L.

Description: § 4(d) Rate Filing: Order No. 587-W Housekeeping Filing to be effective 9/1/2016.

Filed Date: 9/2/16.

Accession Number: 20160902-5238.

Comments Due: 5 p.m. ET 9/14/16.

Docket Numbers: RP16-1231-000.

Applicants: Kern River Gas Transmission Company.

Description: § 4(d) Rate Filing: 2016 September Tenaska to be effective 9/7/2016.

Filed Date: 9/6/16.

Accession Number: 20160906-5300.

Comments Due: 5 p.m. ET 9/19/16.

Docket Numbers: RP16-1232-000.

Applicants: Columbia Gas Transmission, LLC.

Description: § 4(d) Rate Filing: Negotiated & Non-Conforming Service Agmt—Eclipse to be effective 10/1/2016.

Filed Date: 9/6/16.

Accession Number: 20160906-5301.

Comments Due: 5 p.m. ET 9/19/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-440-005.

Applicants: ANR Pipeline Company.

Description: Compliance filing Compliance to RP16-440-004 to be effective 8/1/2016.

Filed Date: 9/1/16.

Accession Number: 20160901-5183.

Comments Due: 5 p.m. ET 9/13/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 7, 2016.
Nathaniel J. Davis, Sr.,
Deputy Secretary.

[FR Doc. 2016-22043 Filed 9-13-16; 8:45 am]

BILLING CODE 6717-01-P